DEPARTMENT OF THE TREASURY

Bureau of Alcohol, Tobacco and Firearms

27 CFR Part 4

[Notice No. 895; Ref: Notice No. 890]

RIN: 1512-AB86

Labeling of Flavored Wine Products (98R-317P)

AGENCY: Bureau of Alcohol, Tobacco and Firearms (ATF), Department of the Treasury.

ACTION: Notice of proposed rulemaking; reopening of comment period.

SUMMARY: This notice reopens the comment period for Notice No. 890, a notice of proposed rulemaking, published in the Federal Register on December 28, 1999. ATF has received a request to extend the comment period in order to provide sufficient time for all interested parties to respond to the issues raised in the notice.

DATES: Written comments must be received on or before May 5, 2000.

ADDRESSES: Send written comments to: Chief, Regulations Division; Bureau of Alcohol, Tobacco and Firearms; P.O. Box 50221; Washington, DC 20091-0221; ATTN: Notice No. 895. Written comments must be signed. Submit e-mail comments to: nprm@atfhq.atf.treas.gov. E-mail comments must contain your name, mailing address, and e-mail address. They must also reference this notice number and be legible when printed on not more than three pages 8½″ × 11″ in size. We will treat e-mail as originals and we will not acknowledge receipt of e-mail. See Public Participation section of this notice for alternative means of commenting.

FOR FURTHER INFORMATION CONTACT: James P. Ficaretta, Regulations Division, Bureau of Alcohol, Tobacco and Firearms, 650 Massachusetts Avenue, NW., Washington, DC 20226 (202-927-8210).

SUPPLEMENTARY INFORMATION:

Background

On December 28, 1999, we published a notice of proposed rulemaking (NPRM) in the Federal Register soliciting comments from the public and industry on a proposal to amend the regulations to create a new standard of identity for flavored wine products (Notice No. 890, 64 FR 72612).

The comment period for Notice No. 890 closed on March 29, 2000. Prior to the close of the comment period ATF received a request from Heaven Hill Distilleries, Inc. (“Heaven Hill”) to extend the comment period 90 days. Heaven Hill stated that it has a number of specialty products that would be affected by the proposed changes and that it needed additional time to evaluate all products concerned in order to develop an appropriate response to the issues addressed in the notice.

In consideration of the above, we believe that a reopening of the comment period is warranted. However, the comment period is being reopened for 30 days. We believe that a comment period totaling 120 days is a sufficient amount of time for all interested parties to respond.

Public Participation

You may also submit comments by facsimile transmission to (202) 927-8602. Facsimile comments must:

• Be legible;

• Reference this notice number;

• Be 8½″ x 11″ in size;

• Contain a legible written signature; and

• Be not more than three pages long.

We will not acknowledge receipt of facsimile transmissions. We will treat facsimile transmissions as originals.

Disclosure

Copies of this notice, Notice No. 890, and the written comments will be available for public inspection during normal business hours at: ATF Public Reading Room, Room 6480, 650 Massachusetts Avenue, NW, Washington, DC.

Drafting Information

The author of this document is James P. Ficaretta, Regulations Division, Bureau of Alcohol, Tobacco and Firearms.

List of Subjects 27 CFR Part 4

Advertising, Consumer protection, Customs duties and inspection, Imports, Labeling, Packaging and containers, and Wine.

Authority and Issuance

This notice is issued under the authority in 27 U.S.C. 205.

Signed: March 30, 2000.
Bradley A. Buckles,
Director.

[FR Doc. 00-8353 Filed 4-4-00; 8:45 am]

BILLING CODE 4810-31-P